DEPARTMENT OF ENERGY

[FE Docket Nos. PP-234 & PP-235]

Notice Extending Comment Period and Rescheduling Public Hearings on the Draft EIS for the Imperial-Mexicali 230-kV Transmission Lines; Baja California Power, Inc. and Sempra Energy Resources

AGENCY: Department of Energy (DOE).

ACTION: Notice of hearings.

SUMMARY: The Department of Energy (DOE), with the Department of the Interior's Bureau of Land Management (BLM) as a cooperating agency, announces the extension of the public comment period for the “Imperial-Mexicali 230-kV Transmission Lines Draft Environmental Impact Statement” (DOE/EIS-0365). In addition, the public hearings to receive comments on the Draft EIS, originally scheduled for June 17, 2004, have been rescheduled for July 14, 2004.

DATES: The comment period on the Draft EIS is extended until July 30, 2004.

Dates for the public hearings are:

1. July 14, 2004, 11 a.m. to 1 p.m., El Centro, California.

2. July 14, 2004, 6 p.m. to 8 p.m., Calexico, California.

ADDRESSES: Requests to speak at the public hearings should be addressed to: Mrs. Ellen Russell, Office of Fossil Energy (FE-27), U.S. Department of Energy, Washington, DC 20585, or transmitted by phone: 202-586-9624, by facsimile: 202-287-5736, or by electronic mail at Ellen.Russell@hq.doe.gov.

The locations of the public hearings are:

1. El Centro City Hall, 1275 W. Main Street, El Centro, California.

2. Calexico City Hall, 608 Heber Street, Calexico, California.

Printed copies of the Draft EIS may be obtained by contacting Mrs. Russell through one of the means provided above. The Draft EIS is also available at the offices of the Bureau of Land Management, 1661 South Fourth Street, El Centro, CA 92243, (telephone 760-337-4400), and on the Internet at http://web.ead.anl.gov/bajatermoeis and http://www.eh.doe.gov/nepa, under “What's New.”

SUPPLEMENTARY INFORMATION: The Draft EIS evaluates the environmental impacts of DOE's proposed Federal actions of issuing Presidential permits to either Baja California Power, Inc. or Sempra Energy Resources (also known as Intergen and Sempra, respectively), or to both, for the construction, operation, maintenance, and connection of two double-circuit, 230,000-volt electric transmission lines that would cross the United States international border in the vicinity of Calexico, California, and connect to separate natural gas-fired electric power plants that have been constructed in Mexico. BLM's proposed Federal actions are the issuance of right-of-way grants to allow the transmission lines to cross Federal lands within BLM's management responsibility.

On May 11, 2004, DOE published a notice in the Federal Register (69 FR 26089) announcing the availability of the Draft EIS and a schedule for public hearings. The Environmental Protection Agency published its notice of availability of the Draft EIS (EPA Document No. 040222) on May 14, 2004 (69 FR 26817) that began a 45-day comment period which was to end on June 30, 2004. However, at the request of the Border Power Plant Working Group, DOE is extending the comment period until July 30, 2004. In addition, the public hearings originally scheduled for June 17, 2004, have been rescheduled to July 14, 2004. Further information on this proceeding is contained in the DOE Notice of Availability previously referenced.

Issued in Washington, DC, on May 20, 2004.
Anthony J. Como,
Deputy Director, Electric Power Regulation, Office of Coal & Power Import/Export, Office of Coal & Power Systems, Office of Fossil Energy.

[FR Doc. 04-11904 Filed 5-25-04; 8:45 am]

BILLING CODE 6450-01-P